GENERAL SERVICES ADMINISTRATION

[OMB Control No. 3090-0315; Docket No. 2020-0001; Sequence No. 6]

Information Collection; Ombudsman Inquiry/Request Instrument

AGENCY: Office of Acquisition Policy, Office of the Procurement Ombudsman (OPO), General Services Administration (GSA).

ACTION: Notice and request for comments.

SUMMARY: Under the provisions of the Paperwork Reduction Act, the Regulatory Secretariat Division will be submitting to the OMB a request to review and approve a renewal to an existing information collection requirement regarding OMB Control No: 3090-0315; Ombudsman Inquiry/Request Instrument.

DATES: Submit comments on or before December 3, 2020.

ADDRESSES: Written comments and recommendations for this information collection should be sent within 30 days of publication of this notice to www.reginfo.gov/public/do/PRAMain. Find this particular information collection by selecting “Currently under Review—Open for Public Comments” or by using the search function.

FOR FURTHER INFORMATION CONTACT: Maria Swaby, GSA Procurement Ombudsman & Industry Liaison, at telephone 202-208-0291, or maria.swaby@gsa.gov.

SUPPLEMENTARY INFORMATION:

A. Purpose

OPO wants to place an online intake Instrument on the GSA Ombudsman's web page for receiving inquiries from vendors who are currently doing business with, or interested in doing business with GSA. The inquiries will be collected by the GSA Ombudsman and routed to the appropriate office for resolution and/or implementation in the case of recommendations for process or program improvements. Reporting of the data collected will help highlight thematic issues that vendors encounter with GSA acquisition programs, processes or policies, and identify areas where training is needed. The information collected will also assist in identifying and analyzing patterns and trends to help improve efficiencies and lead to improvements in current practices.

B. Annual Reporting Burden

Maximum Potential Respondents: 118.

Responses per Respondent: 1.

Total Maximum Potential Annual Responses: 118.

Hours per Response: .25.

Total Burden Hours: 29.5.

C. Public Comments

A 60-day notice published in the Federal Register at 85 FR 52134 on August 24, 2020. No comments were received.

Obtaining Copies: Requesters may obtain a copy of the information collection documents from the GSA Regulatory Secretariat Division by calling 202-501-4755 or emailing GSARegSec@gsa.gov. Please cite OMB Control No. 3090-0315, Ombudsman Inquiry/Request Instrument, in all correspondence.

Beth Anne Killoran,
Deputy Chief Information Officer.

[FR Doc. 2020-24352 Filed 11-2-20; 8:45 am]

BILLING CODE 6820-61-P